DEPARTMENT OF THE INTERIOR

[A1R-17549897-100-00-0-0, CUPCA00]

Environmental Assessment of the Proposed Increase in Operation, Maintenance and Replacement Activities Associated With the Wasatch County Water Efficiency Project

AGENCY: Central Utah Project Completion Act Office, Interior.

ACTION: Notice of intent.

SUMMARY: Pursuant to Section 102(2)(c) of the National Environmental Policy Act of 1969, as amended, the Department of the Interior, the Central Utah Water Conservancy District, and the Utah Reclamation Mitigation and Conservation Commission, as joint leads, are initiating an Environmental Assessment of potential impacts associated with a proposed change in Operation, Maintenance and Replacement activities associated with the Wasatch County Water Efficiency Project (WCWEP). The WCWEP Operation, Maintenance, and Replacement Proposed Action includes: stabilizing canal banks; lining, piping, or enclosing the canals for safety and continued efficiency; improving access; and updating pump stations and regulating ponds to accommodate the changing pattern of water demand and increased urbanization.

DATES: Date and location for public scoping will be announced locally.

FOR FURTHER INFORMATION CONTACT: Mr. Lee Baxter at (801) 379-1174, or by email at lbaxter@usbr.gov.

Dated: April 30, 2013.
Reed R. Murray,
Program Director, Central Utah Project Completion Act, Department of the Interior.

[FR Doc. 2013-10675 Filed 5-3-13; 8:45 am]

BILLING CODE 4310-MN-P